DEPARTMENT OF ENERGY

High Energy Physics Advisory Panel

AGENCY: Department of Energy.

ACTION: Notice of renewal.

SUMMARY: Pursuant to Section 14(a)(2)(A) of the Federal Advisory Committee Act (Pub. L. 92-463), and in accordance with Title 41 of the Code of Federal Regulations, Section 102.3.65(a), and following consultation with the Committee Management Secretariat, General Services Administration, notice is hereby given that the High Energy Physics Advisory Panel will be renewed for a two-year period, beginning on August 12, 2011. The Panel will provide advice and recommendations to the Director, Office of Science (DOE), and the Assistant Director, Mathematical & Physical Sciences Directorate (NSF), on long-range planning and priorities in the national High Energy Physics program.

Additionally, the renewal of the HEPAP has been determined to be essential to conduct the Department of Energy and the National Science Foundation business and to be in the public interest in connection with the performance of duties imposed upon the Department of Energy by law and agreement. The Panel will operate in accordance with the provisions of the Federal Advisory Committee Act, and rules and regulations issued in implementation of those Acts.

FOR FURTHER INFORMATION CONTACT: Glen Crawford, Designated Federal Office, at (301) 903-9458.

Issued at Washington, DC, on August 12, 2011.
Carol A. Matthews,
Committee Management Officer.

[FR Doc. 2011-21731 Filed 8-24-11; 8:45 am]

BILLING CODE 6450-01-P